DEPARTMENT OF HEALTH AND HUMAN SERVICES

Centers for Disease Control and Prevention

[60Day-22-1257; Docket No. CDC-2022-0017]

Extension of Existing Collection of Information Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other federal agencies to take this opportunity to comment on a proposed and/or continuing information collection, as required by the Paperwork Reduction Act of 1995. This notice invites comment on the extension of an existing collection of information titled Assessment of Outcomes Associated with the Preventive Health and Health Services Block Grant. This assessment will assess select cross-cutting outputs and outcomes of the Preventive Health and Health Services Block Grant and demonstrate the utility of the grant on a national level.

DATES: CDC must receive written comments on or before April 5, 2022.

ADDRESSES: You may submit comments, identified by Docket No. CDC-2022-0017 by any of the following methods:

• Federal eRulemaking Portal: regulations.gov. Follow the instructions for submitting comments.

• Mail: Jeffery M. Zirger, Information Collection Review Office, Centers for Disease Control and Prevention, 1600 Clifton Road NE, MS H21-8, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffery M. Zirger, Information Collection Review Office, Centers for Disease Control and Prevention, 1600 Clifton Road NE, H21-8, Atlanta, Georgia 30329; phone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Assessment of Outcomes Associated with the Preventive Health and Health Services Block Grant—Extension—Center for State, Tribal, Local and Territorial Support (CSTLTS), Centers for Disease Control and Prevention (CDC).

Background and Brief Description

For more than 35 years, the Preventive Health and Health Services Block Grant (PHHS Block Grant) has provided flexible funding for all 50 states, the District of Columbia, two American Indian tribes, five U.S. territories, and three freely associated states to address the unique public health needs of their jurisdictions in innovative and locally defined ways. First authorized by Congress in 1981 through the Public Health Service Act (Pub. L. 102-531), the fundamental and enduring purpose of the grant has been to provide grantees with flexibility and control to address their priority public health needs. In 1992, Congress amended the law to align PHHS Block Grant funding priorities with the 22 chapters specified in Healthy People (HP) 2000, a set of national objectives designed to guide health promotion and disease prevention efforts. Additional amendments included set-aside funds specifically dedicated to sex offense prevention and victim services, thus requiring grantees receiving this support to include related HP objectives and activities as part of their PHHS Block Grant—funded local programs.

CDC is establishing a comprehensive, standardized method to collect data to describe select outputs and outcomes and ensure the accountability of the PHHS Block Grant. The CDC PHHS Block Grant Measurement Framework is an innovative approach to assessing cross-cutting outputs and outcomes resulting from grantees' use of flexible grant funds. The framework defines measures that enable CDC to standardize the collection of data on grantee achievements. The CDC PHHS Block Grant Measurement Framework is an innovative approach to: Collecting data on public health infrastructure (i.e., information systems, quality improvement, efficiency and effectiveness of programs, services, and operations); addressing emerging public health needs; and implementing evidence-based public health interventions.

The purpose of this information collection request (ICR) is to collect data that assess select cross-cutting outputs and outcomes of the grant (as defined by the framework measures) and that demonstrate the utility of the grant on a national level. This data collection will describe the outcomes of the PHHS Block Grant as a whole, rather than individual grantee activities or outcomes. Findings from this data collection will be used to: (1) Describe the outcomes and achievements of grantees' public health efforts and identify how the use of PHHS Block Grant funds contributed to those results, and (2) help assess how the PHHS Block Grant advances work of the public health system and provides evidence to support future budgetary requests.

The respondent universe consists of 61 PHHS Block Grant coordinators, or their designees, across 61 health departments (50 states, the District of Columbia, two tribes, five U.S. territories, and three freely associated states). The assessment will be administered to PHHS Block Grant coordinators electronically via a web-based questionnaire. A link to the assessment will be provided by email invitation. The survey will be completed once every two years. The total annualized estimated burden is 46 hours.

Estimated Annualized Burden Hours
Type of respondents | Form name | Number of respondents | Number of responses per respondent | Average burden per response (in hours) | Total burden (in hours)
PHHS Block Grant Coordinators, or Designees | PHHS Block Grant Assessment | 61 | 1 | 45/60 | 46
Total |  |  |  |  | 46

Jeffery M. Zirger,
Lead, Information Collection Review Office, Office of Scientific Integrity, Office of Science, Centers for Disease Control and Prevention.

[FR Doc. 2022-02403 Filed 2-3-22; 8:45 am]

BILLING CODE 4163-18-P